DEPARTMENT OF HEALTH AND HUMAN SERVICES

National Institutes of Health

National Institute of Allergy and Infectious Diseases; Amended Notice of Meeting

Notice is hereby given of a change in the meeting of the National Institute of Allergy and Infectious Diseases Special Emphasis Panel, December 14, 2016, 8:00 a.m. to December 15, 2016, 6:00 p.m., Doubletree Hotel Bethesda, (Formerly Holiday Inn Select), 8120 Wisconsin Avenue, Bethesda, MD 20814 which was published in the Federal Register on November 21, 2016, 81 FR 83253.

This meeting notice is amended to change the start date of the meeting from December 14, 2016 to December 9, 2016. The meeting is closed to the public.

Dated: November 22, 2016.
Natasha M. Copeland,
Program Analyst, Office of Federal Advisory Committee Policy.

[FR Doc. 2016-28643 Filed 11-28-16; 8:45 am]

BILLING CODE 4140-01-P